DEPARTMENT OF HEALTH AND HUMAN SERVICES

Administration for Children and Families

Submission for OMB Review; Understanding the Value of Centralized Services Study (New Collection)

AGENCY: Office of Planning, Research, and Evaluation, Administration for Children and Families, HHS.

ACTION: Request for public comment.

SUMMARY: The Administration for Children and Families (ACF), U.S. Department of Health and Human Services (HHS) is proposing a new data collection activity as part of the Understanding the Value of Centralized Services study. The objective of this descriptive study is to understand the advantages, disadvantages, and costs of centralizing services for individuals and families with low incomes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: This descriptive study aims to provide insight into the models that have been used to centralize services; organizations' history of and impetus for centralizing services; the benefits, challenges, and costs of centralizing services from the perspectives of staff and clients; and how organizations have coordinated their centralized services virtually. This project will include site visits to three centralized community resource centers (CCRCs). The proposed information collection activities include interviews with staff, including leadership and administrative staff, frontline staff, finance staff, and IT/data staff, and focus groups with clients. The research team will also conduct observations of program activities.

Respondents: Respondents will include leadership and administrative staff at the CCRC, staff who manage finances at the CCRC, staff who manage data and/or technology at the CCRC, staff who provide services directly to clients at the CCRC, and clients who have accessed services at the CCRC.

Annual Burden Estimates
Instrument | Number of respondents (total over request period) | Number of responses per respondent (total over request period) | Avg. burden per response (in hours) | Total/annual burden (in hours)
Interview guide for administrative/leadership staff | 18 | 1 | 1.25 | 23
Interview guide for frontline staff | 48 | 1 | 1.25 | 60
Interview guide for finance staff | 9 | 1 | 1 | 9
Interview guide for IT/data staff | 9 | 1 | 1 | 9
Focus group guide for clients | 30 | 1 | 1.5 | 45

Estimated Total Annual Burden Hours: 146.

Authority: Authorized by the Social Security Act 1110 [42 U.S.C. 1310], appropriated by the Continuing Appropriations Act of 2019.

John M. Sweet Jr.,
ACF/OPRE Certifying Officer.

[FR Doc. 2021-25946 Filed 11-26-21; 8:45 am]

BILLING CODE 4184-07-P